OVERSEAS PRIVATE INVESTMENT CORPORATION

Public Hearing

AGENCY: Overseas Private Investment Corporation.

ACTION: Notice of public hearing.

SUMMARY: This notice sets forth the schedule and requirements for participation in an annual public hearing to be conducted by the Overseas Private Investment Corporation (OPIC) on December 7, 2000. This hearing is required by the OPIC Amendments Act of 1985, and this notice is being published to facilitate public participation. The notice also describes OPIC and the subject matter of the hearing.

DATES: The hearing will be held on December 7, 2000, and will begin promptly at 2:00 p.m. Prospective participants must submit to OPIC before close of business December 6, 2000, notice of their intent to participate.

ADDRESSES: The location of the hearing will be: Overseas Private Investment Corporation, 1100 New York Avenue, NW., 12th Floor, Washington, DC. Notices and prepared statements should be sent ot Richard C. Horanburg, Overseas Private Investment Corporation, 1100 New York Avenue, NW., Washington, DC 20527 (e-mail at rhoranburg@opic.gov or facsimile at (202) 218-0179).

FOR FURTHER INFORMATION CONTACT: Richard C. Horanburg, Overseas Private Investment Corporation, 1100 New York Avenue, NW., Washington, DC 20527, (202)-336-8417, by e-mail at rhoranburg@opic.gov, or by fascimile at (202) 218-0179).

SUPPLEMENTARY INFORMATION:

Procedure

(a) Attendance; Participation. The hearing will be open to the public. However, a person wishing to present views at the hearing must provide OPIC with advance notice on or before December 6, 2000. The notice must include the name, address and telephone number of the person who will make the presentation, the name and address of the organization which the person represents (if any) and a concise summary of the subject matter of the presentation.

(b) Prepared Statements. Any participant wishing to submit a prepared statement for the record must submit it to OPIC with the notice or, in any event, not later than 5 p.m. on December 6, 2000. Prepared statements must be typewritten, double spaced and may not exceed twenty-five (25) pages.

(c) Duration of Presentations. Oral presentations will in no event exceed ten (10) minutes, and the time for individual presentations may be reduced proportionately, if necessary, to afford all prospective participants on a particular subject an opportunity to be heard or to permit all subjects to be covered.

(d) Agenda. Upon receipt of the required notices, OPIC will prepare an agenda for the hearing setting forth the subject or subjects on which each participant will speak and the time allotted for each presentation. OPIC will provide each prospective participant with a copy of the agenda.

(e) Publication of Proceedings. A verbatim transcript of the hearing will be compiled. The transcript will be available to members of the public at the cost of reproduction.

Background

OPIC is a U.S. Government agency which provides, on a commercial basis, political risk insurance and financing in friendly developing countries and emerging democracies for environmentally sound projects which confer positive developmental benefits upon the project country while creating employment in the U.S. OPIC is required by section 231A(b) of the Foreign Assistance Act of 1961, as amended (“the Act”) to hold at least one public hearing each year.

Among other issues, OPIC's annual public hearing has, in previous years, provided a forum for testimony concerning section 231A(a) of the Act. This section provides that OPIC may operate its programs only in those countries that are determined to be “taking steps to adopt and implement laws that extend internationally recognized workers rights to workers in that country (including any designated zone in that country).”

Based on consultations with Congress, OPIC complies with annual determinations made by the Executive Branch with respect to worker rights for countries that are eligible for the Generalized System of Preferences (GSP). Any country for which GSP eligibility is revoked on account of its failure to take steps to adopt and implement internationally recognized worker rights is subject concurrently to the suspension of OPIC programs until such time as a favorable worker rights determination can be made.

For non-GSP countries in which OPIC operates its programs, OPIC reviews any country which is the subject of a formal challenge at its annual public hearing. To qualify as a formal challenge, testimony must pertain directly to the worker rights requirements of the law as defined in OPIC's 1985 reauthorizing legislation (Public Law 99-204) with reference to the Trade Act of 1974, as amended, and be supported by factual information.

Dated: November 21, 2000.
Richard C. Horanburg,
Director, Office of Congressional Affairs.

[FR Doc. 00-30220 Filed 11-27-00; 8:45 am]

BILLING CODE 3210-01-M